DEPARTMENT OF THE INTERIOR

Bureau of Land Management

[ID-070-1150-PG]

Notice of Public Meeting, Upper Snake River Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Snake River Resource Advisory Council (RAC), will meet as indicated below.

DATES: The meeting will be held June 4 and 5, 2003 at the Best Western Sawtooth Inn, 2653 South Lincoln, in Jerome, Idaho. The meeting will start June 4 at 2 p.m., with the public comment period beginning at approximately 2:10 p.m. The meeting will adjourn on June 5 at about 5 p.m. The meeting will also include a field trip the afternoon of June 5 to the North Rim of the Snake River.

SUPPLEMENTARY INFORMATION: The 15-member Council advises the Secretary of the Interior, through the Bureau of Land Management, on a variety of planning and management issues associated with public land management in the BLM Upper Snake River District (USRD), which covers south-central and southeast Idaho. At this meeting, topics we plan to discuss include:

Updates on major planning projects in the USRD, including coordination of subgroups.

Review feedback and action items from National RAC Chairs' meeting.

Review of items from Idaho RAC Chairs' meeting, including review and planning of statewide issues.

Other items of interest raised by the Council.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

Other USRD RAC meetings for 2003 have been planned for July and November 2003, and will be announced in a future Federal Register Notice and through local media.

FOR FURTHER INFORMATION CONTACT: David Howell, RAC Coordinator, Upper Snake River District, 1405 Hollipark Dr., Idaho Falls, ID 83401. Telephone (208) 524-7559.

Dated: April 25, 2003.
David O. Howell,
Public Affairs Specialist.

[FR Doc. 03-10956 Filed 5-2-03; 8:45 am]

BILLING CODE 4310-GG-P